DEPARTMENT OF HEALTH AND HUMAN SERVICES

Centers for Disease Control and Prevention

Notice of Award of a Single Source Cooperative Agreement To Fund National Emergency Management Association

AGENCY: Centers for Disease Control and Prevention (CDC), Department of Health and Human Services (HHS).

ACTION: Notice.

SUMMARY: The Centers for Disease Control and Prevention (CDC), located within the Department of Health and Human Services (HHS), announces the award of approximately $165,000, with an expected total funding of approximately $825,000 over a 5-year period, to National Emergency Management Association. The award will identify promising practices and opportunities that build upon existing CDC public health partnership efforts to advance the public health and healthcare system overall capacity to prevent, protect, mitigate, respond to, and recover from all-hazards emergency incidents to include, but not limited to, interrelated efforts to align the Federal Emergency Management (FEMA) Thread and Hazard Identification and Risk Assessment (THIRA) and ongoing alignment of National Preparedness Goal Core Capabilities with the CDC PHEP capabilities and the Assistant Secretary for Preparedness and Response (ASPR) Hospital Preparedness Program (HPP) capabilities.

DATES: The period for this award will be September 30, 2024 through September 29, 2029.

FOR FURTHER INFORMATION CONTACT: Nicole Estes, Office of Readiness and Response-Division of State and Local Readiness, Centers for Disease Control and Prevention, (1600 Clifton Road, Atlanta, GA 30329), Telephone: 404-639-7168, Email: gqh3@cdc.gov.

SUPPLEMENTARY INFORMATION: The single source award will prepare the nation's public health system to minimize the consequences associated with all-hazards events. The Office of Readiness and Response (ORR), Division of State and Local Readiness (DSLR) works to promote the integration of public health emergency preparedness into overarching emergency preparedness and enhance public health emergency preparedness.

National Emergency Management Association is in a unique position to conduct this work, as it is a national professional association of state and insular state emergency management directors committed to providing national leadership and expertise in comprehensive emergency management; serving as a vital information and assistance resource for state and territorial directors and their governors; and forging strategic partnerships to advance continuous improvements in emergency management.

Summary of the Award

Recipient: National Emergency Management Association.

Purpose of the Award: The purpose of this program is to prepare the nation's public health system to minimize the consequences associated with all-hazards events. The Office of Readiness and Response (ORR), Division of State and Local Readiness (DSLR) works to promote the integration of public health emergency preparedness into overarching emergency preparedness and enhance public health emergency preparedness.

Amount of Award: $165,000 in Federal Fiscal Year (FFY) 2024 funds, with a total estimated $825,000 for the 5-year period of performance, subject to availability of funds.

Authority: This program is authorized under section 301(a) and 317(a) of the Public Health Service Act 42 U.S.C. 247(a) Catalog of Federal Domestic Assistance Number 93.684.

Period of Performance: September 30, 2024 through September 29, 2029.

Dated: May 13, 2024.
Jamie Legier,
Acting Director, Office of Grants Services, Centers for Disease Control and Prevention.

[FR Doc. 2024-10982 Filed 5-17-24; 8:45 am]

BILLING CODE 4163-18-P